ENVIRONMENTAL PROTECTION AGENCY

40 CFR Part 63

[EPA-HQ-OAR-2010-0544; FRL-9651-8]

RIN 2060-AQ40

National Emission Standards for Hazardous Air Pollutants: Secondary Aluminum Production

AGENCY: Environmental Protection Agency (EPA).

ACTION: Notice of extension of public comment period.

SUMMARY: On February 14, 2012, EPA proposed amendments to the national emission standards for hazardous air pollutants for secondary aluminum production (77 FR 8576). The EPA is extending the deadline for written comments on the proposed amendments by 14 days to April 13, 2012. The EPA received a request for an extension from the Aluminum Association. The Aluminum Association has requested the extension in order to allow more time to review the redlined of the original rule and the proposed revisions, as well as review the test data for Group I furnaces.

DATES: Comments. The public comment period for the proposed rule published February 14, 2012, (77 FR 8576) is being extended for 14 days to April 13, 2012, in order to provide the public additional time to submit comments and supporting information.

ADDRESSES: Comments. Written comments on the proposed rule may be submitted to EPA electronically, by mail, by facsimile or through hand delivery/courier. Please refer to the proposal for the addresses and detailed instructions.

Docket. Publicly available documents relevant to this action are available for public inspection either electronically at http://www.regulations.gov or in hard copy at the EPA Docket Center, Room 3334, 1301 Constitution Avenue NW., Washington, DC The Public Reading Room is open from 8:30 a.m. to 4:30 p.m., Monday through Friday, excluding legal holidays. A reasonable fee may be charged for copying.

World Wide Web. The EPA Web site for this rulemaking is at: http://www.epa.gov/ttn/atw/.

FOR FURTHER INFORMATION CONTACT: Ms. Rochelle Boyd, Metals and Inorganic Chemicals Group (D243-02), Sector Policies and Programs Division, Office of Air Quality Planning and Standards, U.S. Environmental Protection Agency, Research Triangle Park, North Carolina 27711; Telephone number: (919) 541-1390; Fax number (919) 541-3207; Email address: boyd.rochelle@epa.gov.

SUPPLEMENTARY INFORMATION:

Comment Period

Due to requests received from industry to extend the public comment period, the EPA is extending the public comment period for an additional 14 days. Therefore, the public comment period will end on April 13, 2012, rather than March 30, 2012.

How can I get copies of this document and other related information?

The EPA has established the official public docket No. EPA-HQ-OAR-2010-0544. The EPA has also developed a Web site for the proposed rulemaking at the addresses given above.

Dated: March 20, 2012.
Gina McCarthy,
Assistant Administrator.

[FR Doc. 2012-7029 Filed 3-22-12; 8:45 am]

BILLING CODE 6560-50-P